DEPARTMENT OF COMMERCE

International Trade Administration

[A-485-806]

Notice of Extension of Time Limit for the Preliminary Results of Antidumping Duty Administrative Review: Certain Hot- Rolled Carbon Steel Flat Products from Romania

AGENCY: Import Administration, International Trade Administration, Department of Commerce.

SUMMARY: The Department of Commerce is extending the time limit for completion of the preliminary results of the administrative review of the antidumping duty order on certain hot-rolled carbon steel flat products from Romania until October 16, 2006. The period of review is November 1, 2004, through October 31, 2005.

EFFECTIVE DATE: July 27, 2006.

FOR FURTHER INFORMATION CONTACT: Dunyako Ahmadu, Import Administration, International Trade Administration, U.S. Department of Commerce, 14th Street and Constitution Avenue, NW., Washington, DC 20230; telephone (202) 482-0198.

SUPPLEMENTARY INFORMATION:

Background

On December 22, 2005, the Department of Commerce (the Department) published a notice of initiation of the 2004-2005 antidumping duty administrative review of this order covering Mittal Steel Galati S.A. (formerly Ispat Sidex S.A). See Initiation of Antidumping and Countervailing Duty Administrative Reviews and Request for Revocation in Part, 70 FR 76024 (December 22, 2004).

Extension of Time Limit for Preliminary Results

The Tariff Act of 1930, as amended (the Act), provides at section 751(a)(3)(A) that the Department will issue the preliminary results of an administrative review of an antidumping duty order within 245 days after the last day of the anniversary month of the date of publication of the order. Section 751(a)(3)(A) of the Act provides further that, if the Department determines that it is not practicable to complete the review within this time period, the Department may extend the 245-day period to 365 days.

The Department has determined that it is not practicable to complete the preliminary results by the current deadline of August 2, 2006, because it received a request to conduct a sales-below-cost investigation on July 11, 2006. Additional time is necessary to consider whether to initiate a sales-below-cost investigation, give MS Galati an opportunity to provide relevant information, review MS Galati's response, and, if appropriate, conduct the cost analysis as part of the calculation of the weighted-average margin for MS Galati.

Therefore, in accordance with section 751(a)(3)(A) of the Act and 19 CFR 351.213(h)(2), the Department is extending the time limit for the preliminary results by 75 days to October 16, 2006.

We are issuing this notice in accordance with section 751(a)(3)(A) of the Act.

Dated: July 21, 2006.
Stephen J. Claeys,
Deputy Assistant Secretary for Import Administration.

[FR Doc. E6-11972 Filed 7-26-06; 8:45 am]

BILLING CODE 3510-DS-S